ENVIRONMENTAL PROTECTION AGENCY

[EPA-HQ-OPP-2025-0029; FRL-12719-02-OCSPP]

Cancellation Order for Certain Pesticide Registrations and/or Amendments To Terminate Uses (From August 05, 2025, Notice)

AGENCY: Environmental Protection Agency (EPA).

ACTION: Notice.

SUMMARY: This notice announces EPA's order for the cancellations and/or amendments to terminate uses, voluntarily requested by the registrants and accepted by the Agency, pursuant to the Federal Insecticide, Fungicide, and Rodenticide Act (FIFRA). This cancellation order follows an August 05, 2025, Federal Register Notice of Receipt of Requests from the registrants listed in Table 3 of Unit II, to voluntarily cancel and/or amend to terminate uses of these product registrations. In the August 05, 2025, notice, EPA indicated that it would issue an order implementing the cancellations and/or amendments to terminate uses, unless the Agency received substantive comments within the 30-day comment period that would merit its further review of these requests, or unless the registrants withdrew their requests. The Agency did not receive any comments on the notice. One registrant, the registrant of 7969-33, withdrew their request. Therefore, it has been removed from this notice. Accordingly, EPA hereby issues this notice a cancellation order granting the requested cancellations and/or amendments to terminate uses. Any distribution, sale, or use of the products subject to this cancellation order is permitted only in accordance with the terms of this order, including any existing stocks provisions.

DATES: The cancellations and/or amendments are effective December 19, 2025.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2025-0029, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744 and the telephone number for the OPP Docket is (202) 566-1744. Please review the visitor instructions and additional information about the docket available at https://www.epa.gov/dockets.

II. What action is the Agency taking?

This notice announces the cancellations and/or amendments to terminate uses, as requested by registrants, of products registered under FIFRA section 3 (7 U.S.C. 136a). These registrations are listed in sequence by registration number in Tables 1, 1A and 2 of this unit.

Table 1—Product Cancellations
Registration No. | Company No. | Product name | Active ingredients
228-393 | 228 | Riverdale Resound 90DF | Chlorothalonil (081901/1897-45-6)—(90%).
228-601 | 228 | Nufarm CTN 82.5 | Chlorothalonil (081901/1897-45-6)—(82.5%).
961-277 | 961 | Lebanon Turf Fungicide Contains Daconil | Chlorothalonil (081901/1897-45-6)—(5%).
1381-222 | 1381 | Thiophanate-Methyl 45% F Fungicide | Thiophanate-methyl (102001/23564-05-8)—(46.2%).
4959-46 | 4959 | Bio Hatch | 1-Decanaminium, N-decyl-N,N-dimethyl-, chloride (069149/7173-51-5)—(7.5%).
5905-472 | 5905 | Helena Bravo S | Chlorothalonil (081901/1897-45-6)—(19.15%), Sulfur (077501/7704-34-9)—(27.25%).
5905-527 | 5905 | Chlorothalonil 90 D | Chlorothalonil (081901/1897-45-6)—(90%).
5905-601 | 5905 | Omni Brand Chlorothalonil | Chlorothalonil (081901/1897-45-6)—(54%).
9779-270 | 9779 | Chlorothalonil 4L | Chlorothalonil (081901/1897-45-6)—(40.4%).
9779-280 | 9779 | Chlorothalonil 90 DF | Chlorothalonil (081901/1897-45-6)—(90%).
9779-320 | 9779 | Terranil 6L | Chlorothalonil (081901/1897-45-6)—(54%).
9779-333 | 9779 | Terranil ZN | Chlorothalonil (081901/1897-45-6)—(38.5%).
46149-1 | 46149 | Nolo BB Concentrate | Nosema locustae (117001/)—(.1%).
46149-2 | 46149 | Nolo Bait | Nosema locustae Canning LM (117002/)—(.05%).
53053-26 | 53053 | Envirosystems Proshield 3651 I | 1-Decanaminium, N,N-dimethyl-N-octyl-, chloride (069165/32426-11-2)—(4.8%), 1-Decanaminium, N-decyl-N,N-dimethyl-, chloride (069149/7173-51-5)—(2.88%), 1-Octadecanaminium, N,N-dimethyl-N-(3-(trimethoxysilyl)propyl)-, chloride (107401/27668-52-6)—(35.6%), 1-Octanaminium, N,N-dimethyl-N-octyl-, chloride (069166/5538-94-3)—(1.92%), Alkyl* dimethyl benzyl ammonium chloride *(50%C14, 40%C12, 10%C16) (069105/68424-85-1)—(6.4%).
53053-27 | 53053 | Envirosystems Proshield 3651 D | 1-Decanaminium, N,N-dimethyl-N-octyl-, chloride (069165/32426-11-2)—(4.8%), 1-Decanaminium, N-decyl-N,N-dimethyl-, chloride (069149/7173-51-5)—(2.88%), 1-Octadecanaminium, N,N-dimethyl-N-(3-(trimethoxysilyl)propyl)-, chloride (107401/27668-52-6)—(35.6%), 1-Octanaminium, N,N-dimethyl-N-octyl-, chloride (069166/5538-94-3)—(1.92%), Alkyl* dimethyl benzyl ammonium chloride *(50%C14, 40%C12, 10%C16) (069105/68424-85-1)—(6.4%).
71711-24 | 71711 | NAI-301 4 SE Fungicide | Chlorothalonil (081901/1897-45-6)—(21.65%), Flutolanil (128975/66332-96-5)—(17.2%), Propiconazole (122101/60207-90-1)—(1.8%).
91861-2 | 91861 | Bona STL Disinfecting Cleaner | Hydrogen peroxide (000595/7722-84-1)—(.97%).
AL-040001 | 95290 | Curfew | Telone (029001/542-75-6)—(97.5%).
AL-170003 | 62719 | Enlist Duo | 2,4-D, choline salt (051505/1048373-72-3)—(24.4%), Glyphosate, dimethylammonium salt (103608/34494-04-7)—(22.1%).
AL-170005 | 62719 | GF-3335 | 2,4-D, choline salt (051505/1048373-72-3)—(55.7%).
AL-170007 | 62719 | GF-3335 | 2,4-D, choline salt (051505/1048373-72-3)—(55.7%).
IN-190001 | 9779 | Moxy 2E | Bromoxynil octanoate (035302/1689-99-2)—(33.4%).
OR-070005 | 5481 | Tre Hold Sprout Inhibitor | Ethyl 1-naphthaleneacetate (056008/2122-70-5)—(1.15%).
OR-110008 | 70506 | ARY 0454-105 Suspension Concentrate Herbicide | Flucarbazone-sodium (114009/181274-17-9)—(35%).
OR-150002 | 71368 | Cheetah Herbicide | Glufosinate (128850/77182-82-2)—(24.5%).
OR-190003 | 70506 | Vitaflo 280 | Carboxin (090201/5234-68-4)—(15.59%), Thiram (079801/137-26-8)—(13.25%).
OR-190005 | 62562 | Sulphur W.G. | Sulfur (077501/7704-34-9)—(80%).
OR-210011 | 91810 | Romeo | Cerevisane (cell walls of Saccharomyces cerevisiae strain LAS117) (100055/)—(94.1%).
WA-130002 | 61842 | Linex 4L Herbicide | Linuron (035506/330-55-2)—(40.6%).

The registrant of the products listed in Table 1A of this unit have requested 18-months to sell existing stocks of those products.

Table 1A—Product Cancellations, Continued
Registration No. | Company No. | Product name | Active ingredients
70506-271 | 70506 | Pegasus 82.5 DF | Chlorothalonil (081901/1897-45-6)—(82.5%).
70506-273 | 70506 | Pegasus HPX | Chlorothalonil (081901/1897-45-6)—(54%).
70506-563 | 70506 | Royal MH-30 | Maleic hydrazide, potassium salt (051503/28382-15-2)—(21.7%).
70506-565 | 70506 | Royal Slo-Gro | Maleic hydrazide, potassium salt (051503/28382-15-2)—(21.7%).
70506-568 | 70506 | Royal MH-30 SG | Maleic hydrazide, potassium salt (051503/28382-15-2)—(80%).
70506-576 | 70506 | Royal MH-30 Xtra | Maleic hydrazide, potassium salt (051503/28382-15-2)—(30.3%).

Table 2—Product Registration Amendments To Terminate Uses
Registration No. | Company No. | Product name | Active ingredient | Uses to be terminated
1021-343 | 1021 | Pyrocide Intermediate 75-OF | Piperonyl butoxide (067501/51-03-6)—(75%), Pyrethrins (069001/8003-34-7)—(7.5%) | Human Articles uses.
1021-1599 | 1021 | Evercide Pressurised Pet and Plant Spray 2561 | Permethrin (109701/52645-53-1)—(.05%), Pyrethrins (069001/8003-34-7)—(.056%) | Cat uses.
2749-576 | 2749 | Propargite Technical | Propargite (097601/2312-35-8)—(93.58%) | Use on ornamental plants.
2749-577 | 2749 | Miteo Max II | Propargite (097601/2312-35-8)—(67.76%) | Use on ornamental plants.
2749-578 | 2749 | Miteo Max 6EC | Propargite (097601/2312-35-8)—(67.76%) | Use on ornamental plants.
2749-579 | 2749 | Miteo Max II EC | Propargite (097601/2312-35-8)—(67.76%) | Use on ornamental plants.
9688-314 | 9688 | Chemsico Insecticide RTU CG | Alkyl* dimethyl benzyl ammonium chloride *(60%C14, 30%C16, 5%C18, 5%C12) (069104/53516-76-0)—(.105%), Alkyl* dimethyl ethylbenzyl ammonium chloride *(68%C12, 32%C14) (069154/85409-23-0)—(.105%), Cypermethrin (109702/52315-07-8)—(.2%) | Outdoor conventional uses.
34704-1132 | 34704 | Mitey | Propargite (097601/2312-35-8)—(69.6%) | Ornamental Herbaceous Plants. Ornamental Conifers. Ornamental field and nursery use. Use on Christmas trees and conifers grown in containers. Use on non-bearing crops grown in containers.
70506-564 | 70506 | Omite-6E | Propargite (097601/2312-35-8)—(69.2%) | Use on ornamental plants.
70506-566 | 70506 | Comite | Propargite (097601/2312-35-8)—(73.6%) | Use on ornamental plants.
70506-572 | 70506 | Omite-30WS | Propargite (097601/2312-35-8)—(32%) | Use on ornamental plants.
70506-590 | 70506 | Omite 30W | Propargite (097601/2312-35-8)—(32%) | Use on ornamental plants.
87373-104 | 87373 | E117.01 | Propargite (097601/2312-35-8)—(69.6%) | Ornamental uses.
91234-33 | 91234 | A117.02 | Propargite (097601/2312-35-8)—(69.6%) | Ornamental uses.
91813-91 | 91813 | Omite Technical | Propargite (097601/2312-35-8)—(90.6%) | Use on ornamental plants.
93930-72 | 93930 | Avalaire Propargite | Propargite (097601/2312-35-8)—(69.6%) | Ornamental uses.
103050-4 | 103050 | Zen Propargite Technical | Propargite (097601/2312-35-8)—(91.5%) | Ornamental uses.

Table 3 of this unit includes the names and addresses of record for all registrants of the products in Tables 1, 1A and 2 of this unit, in sequence by EPA company number. This number corresponds to the first part of the EPA registration numbers of the products listed above.

Table 3—Registrants of Cancelled and/or Amended Products
Company No. | Company Name and Address
228 | Nufarm Americas, Inc., 4000 Aerial Center Pkwy., Suite 101, Morrisville, NC 27560.
961 | Lebanon Seaboard Corporation, 1600 East Cumberland Street, Lebanon, PA 17042.
1021 | McLaughlin Gormley King Company, D/B/A MGK, 7325 Aspen Lane N, Minneapolis, MN 55428.
1381 | Winfield Solutions, LLC, P.O. Box 64589, St. Paul, MN 55164-0589.
2749 | Aceto Life Sciences, L.L.C., D/B/A Actylis, Agent Name: Product & Regulatory Associates, LLC, 8595 Collier Blvd. Suite 107-51, Naples, FL 34114.
4959 | West Agro, Inc., 11100 N Congress Ave., Kansas City, MO 64153.
5481 | AMVAC Chemical Corporation, 4695 MacArthur Court, Suite 1200, Newport Beach, CA 92660-1706.
5905 | Helena Agri-Enterprises, LLC, D/B/A Helena Chemical Comp, 225 Schilling Blvd., Suite 300, Collierville, TN 38017.
9688 | Chemsico, A Division of United Industries Corp., P.O. Box 142642, St. Louis, MO 63114-0642.
9779 | Winfield Solutions, LLC, P.O. Box 64589, St. Paul, MN 55164-0589.
34704 | Loveland Products, Inc., Agent Name: Pyxis Regulatory Consulting, Inc., 4110 136th Street Ct. Nw, Gig Habor, WA 98332.
46149 | M&R Durango, Inc., P.O. Box 886, Bayfield, CO 81122.
53053 | Novalent, Ltd., Agent Name: Scientific & Regulatory Consultants, Inc., 210 W Van Buren St, Columbia City, IN 46725.
61842 | Tessenderlo Kerley, Inc., Agent Name: Pyxis Regulatory Consulting, Inc., 535 Dock Street, Suite 211, Tacoma, WA 98402.
62562 | Quimetal Industrial S.A., Agent Name: Lewis & Harrison, LLC, 2461 South Clark Street, Suite 710, Arlington, VA 22202.
62719 | Corteva Agriscience, LLC, 9330 Zionsville Road, Indianapolis, IN 46268.
70506 | UPL NA, Inc., P.O. Box 12219, Research Triangle Park, NC 27709.
71368 | NuFarm, Inc., Agent Name: NuFarm Americas, Inc., 4000 Aerial Center Parkway, Suite 101, Morrisville, NC 27560.
71711 | Nichino America, Inc., 4550 Linden Hill Road, Suite 501, Wilmington, DE 19808.
87373 | Argite, LLC, Agent Name: Pyxis Regulatory Consulting, Inc., 535 Dock Street, Suite 211, Tacoma, WA 98402.
91234 | Atticus, LLC, Agent Name: Pyxis Regulatory Consulting, Inc., 535 Dock Street, Suite 211, Tacoma, WA 98402.
91810 | Lesaffre Yeast Corporation, Agent Name: Wagner Regulatory Associates, Inc., 7217 Lancaster Pike, Suite A, P.O. Box 640, Hockessin, DE 19707-0640.
91813 | UPL Delaware, Inc., P.O. Box 12219, Research Triangle Park, NC 27709.
91861 | Bonakemi USA, Inc. (DBA Bona US), 24 Inverness Place East, Englewood, CO 80112.
93930 | Avalaire, LLC, 1705 Towanda Ave., Bloomington, IL 61701.
95290 | Salt Lake Holding, LLC, 2211 H.H. Dow Way, Midland, MI 48674.
103050 | Zenavis, LLC, Agent Name: Pyxis Regulatory Consulting, Inc., 535 Dock Street, Suite 211, Tacoma, WA 98402.

III. Summary of Public Comments Received and Agency Response to Comments

During the public comment period provided, EPA received no comments in response to the August 05, 2025, Federal Register (90 FR 37504) (FRL-12719-01-OCSPP) notice announcing the Agency's receipt of the requests for voluntary cancellations and/or amendments to terminate uses of products listed in Tables 1, 1A and 2 of Unit II.

IV. Cancellation Order

Pursuant to FIFRA section 6(f) (7 U.S.C. 136d(f)(1)), EPA hereby approves the requested cancellations and/or amendments to terminate uses of registrations identified in Tables 1, 1A and 2 of Unit II. Accordingly, the Agency hereby orders that the product registrations identified in Tables 1, 1A and 2 of Unit II, are canceled and/or amended to terminate the affected uses. The effective date of the cancellations that are subject of this notice is December 19, 2025. Any distribution, sale, or use of existing stocks of the products identified in Tables 1, 1A and 2 of Unit II, in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 05, 2025 (90 FR 37504) (FRL-12719-01-OCSPP). The comment period closed on September 04, 2025.

VI. Provisions for Disposition of Existing Stocks

Existing stocks are those stocks of registered pesticide products which are currently in the United States, and which were packaged, labeled, and released for shipment prior to the effective date of the action. The existing stocks provision for the products subject to this order is as follows.

The registrants may continue to sell and distribute existing stocks of products listed in Table 1 of Unit II until December 21, 2026, which is 1 year after publication of this cancellation order in the Federal Register. Thereafter, the registrants are prohibited from selling or distributing products listed in Table 1 of Unit II, except for export in accordance with FIFRA section 17 (7 U.S.C. 136o) or for proper disposal.

For the products listed in Table 1A of Unit II, the registrant has requested 18-months to sell existing stocks of those products. The registrant is permitted to sell or distribute products listed in Table 1A of Unit II, until June 21, 2027, a period of 18 months after publication of the cancellation order in this Federal Register. Thereafter, the registrant is prohibited from selling or distributing these products, except for export in accordance with FIFRA section 17 (7 U.S.C. 136o) or for proper disposal.

Now that EPA has approved product labels reflecting the requested amendments to terminate uses, registrants are permitted to sell or distribute products listed in Table 2 of Unit II, under the previously approved labeling until June 21, 2027, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and/or products whose labels include the terminated uses until supplies are exhausted, provided that such sale, distribution, or use is consistent with the terms of the previously approved labeling on, or that accompanied, the canceled products and/or terminated uses.

Authority: 7 U.S.C. 136 et seq.

Dated: October 14, 2025.
Charles Smith,
Director, Registration Division, Office of Pesticide Programs.

[FR Doc. 2025-23444 Filed 12-18-25; 8:45 am]

BILLING CODE 6560-50-P